FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Aduanair Cargo & Courier Corp. (NVO & OFF), 5900 NW 99th Avenue, Suite #6, Miami, FL 33178. Officers: Anamar Del Castillo, Vice President (QI), Jesus Cachazo, President, Application Type: New NVO & OFF License.

Air & Surface Systems, Inc. dba Air & Surface Logistics (NVO), 16 Technology Drive, Suite 200, Irvine, CA 92618. Officer: Paige Cotcamp, President (QI), Application Type: New NVO License.

American Star Logistics, Inc. (NVO & OFF), 12400 S. Cicero Avenue, Alsip, IL 60803. Officer: Ylli Karaqica, President (QI), Application Type: Add OFF Service.

Apexim International, Inc. (NVO & OFF), 2259 University Drive, Naperville, IL 60565. Officers: Peter R. Barker, President (QI), Maureen E. Barker, Secretary, Application Type: New NVO & OFF License.

Azend International Inc (NVO), 12908 Cook Street, Los Angeles, CA 20961. Officer: Adolfo Zendejas, Jr., President (QI), Application Type: New NVO License.

Blue Water Shipping U.S. Inc. (NVO & OFF), Raritan Center Business Park, 60 Campus Drive, Edison, NJ 08837. Officers: Hans Mikkelsen, President (QI), Victor Sapp, Vice President, Application Type: QI Change.

Century Marine Corporation (OFF), 1924 Rankin Road, Suite 370, Houston, TX 77073. Officers: Jolie K. Cosman, President (QI), Craig M. Cosman, Vice President, Application Type: New OFF License.

Container Shipping, LLC (NVO & OFF), 533 N. Nova Road, Suite 213B, Ormond Beach, FL 32164. Officers: Svetlana Shmakova, Member (QI), Stanislav Voronin, Member, Application Type: New NVO & OFF License.

Daniel F. Young, Inc. (OFF), 1235 Westlakes Drive, Suite 255, Berwyn, PA 19312. Officers: Denise Traynor, CFO (QI), A. Wesley Wyatt IV, President, Application Type: Add Trade Name DF Young.

DFS Ocean Services LLC (NVO & OFF), 25 Shaw Street, Annapolis, MD 21401. Officers: Gregory McCloskey, Vice President (QI), John Rodenhouse, CEO, Application Type: Add NVO Service.

EC Logistics LLC (NVO), 1700 East Walnut Avenue, Suite 220, El Segundo, CA 90245. Officer: Xin Chen, Member/Manager (QI), Application Type: QI Change.

Infinite Logistics Service Corp. (NVO), 14271 Fern Avenue, Chino, CA 91710. Officer: Richard Tsiu, President (QI), Application Type: Transfer License to Infinite Global Trading.

InstiCo Freight Management Inc (NVO & OFF), 1702 Minters Chapel Road, Suite 218, Grapevine, TX 76051. Officers: Ismel Camacho, Corporate Secretary (QI), John Hernando, President, Application Type: New NVO & OFF License.

Interglobal Logistics Corp. (NVO & OFF), 4618 NW 74th Avenue, Miami, FL 33166. Officers: Cora Scotti, Vice President (QI), Danny Hoyos, President, Application Type: Add OFF Service.

Karpeles Freight Services, Inc. (NVO & OFF), 150 Albany Avenue, Freeport, NY 11520. Officers: Malcolm T. Heath, CEO (QI), Brian P. Lynch, Secretary, Application Type: New NVO & OFF License.

Load Group International, Inc. (NVO & OFF), 2500 E. Hallandale Beach Blvd., #710, Hallandale, FL 33009. Officer: Hermann Lange, President (QI), Application Type: New NVO & OFF License.

Lopa Co., Ltd. (NVO & OFF), 5532 Fir Circle, La Palma, CA 90623. Officers: Tony Lee, Vice President (QI), Haidong Zhang, President, Application Type: Add OFF Service.

Meridian Freight LLC (NVO), 5601 Collins Avenue, Suite 1118, Miami Beach, FL 33140. Officer: Alexey Rybnikov, Member (QI), Olga Enina, Member, Application Type: New NVO License.

Miragrown Logistics Corporation dba Lucky Consol Inc. (NVO), 2370 West Carson Street, Suite 130, Torrance, CA 90501. Officers: Krystal Castro, Secretary (QI), Zhimin Wei, President, Application Type: QI Change.

Moveline Group, Inc. (NVO & OFF), 228 S. 4th Street, Suite 200, Las Vegas, NV 89101. Officers: Alex Alpert, Vice President (Sales and Operations) (QI), Frederick Cook, CEO, Application Type: New NVO & OFF License.

NEC Logistics, Ltd. (NVO), MusashiKosugi STM Building 1-403, Kosugi-cho, Nakahara-ku, Kawasaki-shi, Kanagawa 211-0063, Japan. Officers: Manabu Saito, Global Network Business Unit Affairs Manager (QI), Naoki Yoshimura, President, Application Type: Name Change to Nittsu NEC Logistics, Ltd..

O G Shipping & Business, Inc. (NVO), 3123 Beverly Road, Brooklyn, NY 11226. Officers: Orrin Henderson, President (QI), Dawn Adams, Vice President, Application Type: New NVO License.

Pre Clearance Customhouse Brokers and Freight Forwarders, LLC (NVO), 150-30 132nd Avenue, Suite 208, Jamaica, NY 11434. Officers: Salvatore Stile, President (QI), Damien Stile, Secretary, Application Type: New NVO License.

qHub Logistics Corporation (NVO), 8801 Fallbrook Drive, Houston, TN 77064. Officers: Jimmy Chen, Vice President (QI), James J. Huang, President, Application Type: Add OFF Service.

Quad Logistics Services, LLC dba QWExpress (NVO & OFF), 1000 Remington Blvd., Suite 300, Bolingbrook, IL 60440. Officers: Carol E. Brennan, Assistant Secretary (QI), James Quadracci, President, Application Type: New NVO & OFF License.

Sun Track Express Inc (NVO & OFF), 1000 Corporate Center Drive, Suite 209, Monterey Park, CA 91754. Officers: Yu Ding, Secretary (QI), Hao Liang, President, Application Type: New NVO & OFF License.

TMB USA, Inc (NVO & OFF), 8024 NW 29th Street, Miami, FL 33122. Officers: Vanessa F. Ramirez, Vice President (QI), Eduardo Hernandez, President, Application Type: New NVO & OFF License.

Trans Shipping International Inc. (NVO & OFF), 762 Empire Boulevard, Suite 4B, Brooklyn, NY 11213. Officer: Shay Harpaz, President (QI), Application Type: New NVO & OFF License.

Transmarine Transportation and Distribution LLC (NVO), 19655 1st Avenue South, Suite 106, Normandy Park, WA 98148. Officer: Victor V.Q. Tran, Member/Manager (QI), Application Type: New NVO License.

Venezolana De Fletamentos Cavefle, LLC (NVO & OFF), 12190 NW 98th Avenue, Hialeah, FL 33018. Officers: Genesis Diaz, Manager (QI), Veronica Alceste, Manager/Member, Application Type: New NVO & OFF License.

By the Commission.

Dated: March 11, 2014.
Karen V. Gregory,
Secretary.

[FR Doc. 2014-05638 Filed 3-13-14; 8:45 am]

BILLING CODE 6730-01-P